DEPARTMENT OF COMMERCE

Foreign-Trade Zones Board

[B-78-2021]

Foreign-Trade Zone (FTZ) 18—San Jose, California, Authorization of Production Activity Innovusion, Inc. (Light Detection and Ranging Systems), Sunnyvale, California

On November 12, 2021, Innovusion, Inc., submitted a notification of proposed production activity to the FTZ Board for its facility within FTZ 18 in Sunnyvale, California.

The notification was processed in accordance with the regulations of the FTZ Board (15 CFR part 400), including notice in the Federal Register inviting public comment (86 FR 67022, November 24, 2021). On March 14, 2022, the applicant was notified of the FTZ Board's decision that no further review of the activity is warranted at this time. The production activity described in the notification was authorized, subject to the FTZ Act and the FTZ Board's regulations, including Section 400.14.

Dated: March 14, 2022.
Andrew McGilvray,
Executive Secretary.

[FR Doc. 2022-05727 Filed 3-17-22; 8:45 am]

BILLING CODE 3510-DS-P